DEPARTMENT OF ENERGY

Federal Energy Regulatory Commission

[Docket No. EC02-86-000, et al.]

The AES Corporation, et al.; Electric Rate and Corporate Regulation Filings

July 2, 2002.

The following filings have been made with the Commission. The filings are listed in ascending order within each docket classification.

1. The AES Corporation, AES Capital Funding, LLC, AES NewEnergy, Inc., Constellation Energy Group, Inc., CEG Acquisition, LLC

[Docket No. EC02-86-000]

Take notice that on June 27, 2002, The AES Corporation, AES Capital Funding, LLC, AES NewEnergy, Inc., Constellation Energy Group, Inc., and CEG Acquisition, LLC tendered for filing with the Federal Energy Regulatory Commission a Joint Application for Expedited Approval of the Disposition of Jurisdictional Facilities Under Section 203 of the Federal Power Act, pursuant to Section 203 of the Federal Power Act, 16 U.S.C. § 824b (2000).

Comment Date: July 18, 2002.

2. San Diego Gas & Electric Company v. Sellers of Energy and Ancillary Service Into Markets Operated by the California Independent System Operator and the California Power Exchange, Investigation of Practices of the California Independent System Operator and the California Power Exchange, Public Meeting in San Diego, California, Reliant Energy Power Generation, Inc., Dynegy Power Marketing, Inc., and Southern Energy California, L.L.C. v. California Independent System Operator Corporation, California Electricity Oversight Board v. All Sellers of Energy and Ancillary Services Into the Energy and Ancillary Services Markets Operated by the California Independent System Operator and the California Power Exchange, California Municipal Utilities Association v. All Jurisdictional Sellers of Energy and Ancillary Services Into Markets Operated by the California Independent System Operator and the California Power Exchange, Californians for Renewable Energy, Inc. (CARE) v. Independent Energy Producers, Inc., and All Sellers of Energy and Ancillary Services Into Markets Operated by the California Independent System Operator and the California Power Exchange; All Scheduling Coordinators Acting on Behalf of the Above Sellers; California Independent System Operator Corporation; and California Power Exchange Corporation, Investigation of Wholesale Rates of Public Utility Sellers of Energy and Ancillary Services in the Western Systems Coordinating Council

[Docket Nos. EL00-95-063, EL00-98-052, EL00-107-011, EL00-97-005, EL00-104-010, EL01-1-011, EL01-2-005, and EL01-68-015]

Take notice that on June 24, 2002, the California Independent System Operator Corporation (ISO) submitted a compliance report as required by the Commission's May 15, 2002 “Order Accepting in Part and Rejecting in Part Compliance Filing,” 99 FERC ¶ 61,158, issued in the above-referenced dockets. The ISO states that it has served the filing upon all entities that are on the official service lists for the above-referenced dockets.

Comment Date: July 15, 2002.

3. Alliance Companies, et al. and National Grid USA

[Docket No. EL02-65-008]

Take notice that on June 25, 2002, American Electric Power Service Corporation (on behalf of Appalachian Power Company, Columbus Southern Power Company, Indiana Michigan Power Company, Kentucky Power Company, Kingsport Power Company, Ohio Power Company, and Wheeling Power Company) (AEP), Commonwealth Edison Company and Commonwealth Edison Company of Indiana, Inc. (ComEd), and Illinois Power Company (Illinois Power), filed a Memorandum Of Understanding Among And Between PJM Interconnection, L.L.C., National Grid USA, And Participants In The Independent Transmission Company (MOU), including Attachments A and B. The filing is intended to supplement the information provided in the reports filed by AEP, ComEd and Illinois Power on May 28, 2002 in this proceedings.

Comment Date: July 12, 2002.

4. Cleco Power LLC, Dalton Utilities, Entergy Services, Inc., Georgia Transmission Corporation, MEAG Power, Sam Rayburn G&T Electric Coop., Inc., South Carolina Public Service Authority, South Mississippi Electric Power Association, Southern Companies Services, Inc., Tallahassee, City of

[Docket No. EL02-101-000]

Take notice that on June 27, 2002, Cleco Power LLC, Dalton Utilities, Entergy Services, Inc., Georgia Transmission Corporation, MEAG Power, Sam Rayburn G&T Electric Coop., Inc., South Carolina Public Service Authority, South Mississippi Electric Power Association, Southern Companies Services, Inc. and the City of Tallahassee, Florida, tendered for filing with the Federal Energy Regulatory Commission (Commission), a Petition for Declaratory Order pursuant to Rule 207 of the Commission's Rules of practice and procedure (18 CFR 385.207). The Petition for Declaratory order concerns the proposed SeTrans RTO.

Comment Date: July 29, 2002.

5. Sithe Edgar, LLC, Sithe New Boston, LLC, Sithe New Boston, LLC, Sithe Framingham, LLC, Sithe West Medway, LLC, Sithe Wyman, LLC, Sithe Mystic, LLC, Sithe Mystic Development LLC, Sithe Power Marketing, LP, Sithe Fore River Development, LLC, Exelon Generation Company, LLC, PECO Energy Company, Commonwealth Edison Company, Exelon Energy Company, AmerGen Energy Company, LLC, AmerGen Vermont, LLC, Unicom Power Marketing, Inc.

[Docket Nos. ER00-3691-003, ER01-42-003, ER99-2404-002, ER02-41-002, ER00-3251-004, ER96-641-001, ER98-1734-005, ER01-1919-001, ER99-754-007, ER00-1030-004, and ER97-3954-015]

Take notice that on June 26, 2002, the captioned utilities filed a notification of change in status with respect to each entity's authority to engage in wholesale sales of capacity, energy, and ancillary services at market-based rates with respect to the acquisition by Exelon Generation Company, LLC, of all of the membership interests of Sithe New England Holdings, LLC, and the stock of Sithe AOG Holding # 1, Inc., and Sithe AOG Holding # 2, Inc.

Comment Date: July 17, 2002.

6. Indigo Generation LLC, Larkspur Energy LLC, and Wildflower Energy LP (collectively the Wildflower Entities”)

[Docket No. ER02-763-002]

Take notice that on June 26, 2002, Indigo Generation LLC, Larkspur Energy LLC and Wildflower Energy LP (collectively the Wildflower Entities) submitted their filing in compliance with the directives of the Commission in a letter order dated June 11, 2002 in the above-captioned dockets.

Comment Date: July 17, 2002.

7. Nevada Power Company

[Docket No. ER02-1402-001]

Take notice that on June 26, 2002, Nevada Power Company tendered for filing its compliance filing making the changes to the executed Interconnection and Operation Agreement between Nevada Power Company and Reliant Entergy Bighorn, LLC required by the Commission's May 23rd letter order in this docket.

Comment Date: July 17, 2002.

8. New England Power Pool

[Docket No. ER02-2154-000]

Take notice that on June 26, 2002, the New England Power Pool (NEPOOL) Participants Committee filed for acceptance materials to permit NEPOOL to expand its membership to include FPL Energy Seabrook, LLC (FPLE Seabrook), and to terminate the membership of The New Power Company (NewPower). The Participants Committee requests an effective date for commencement of participation in NEPOOL by FPLE Seabrook as of the closing date of the sale of the Seabrook Nuclear Generating Station (the “Station”) from the Joint Selling Owners of the Station and a June 1, 2002 effective date for the termination of NewPower.

The Participants Committee states that copies of these materials were sent to the New England state governors and regulatory commissions and the Participants in NEPOOL.

Comment Date: July 17, 2002.

9. Illinois Power Company

[Docket No. ER02-2155-000]

Take notice that on June 26, 2002, Illinois Power Company (Illinois Power), filed a Second Revised Service Agreement for Network Integration Transmission Service with MidAmerican Energy Company.

Illinois Power requests an effective date of June 1, 2002 for the Agreement and seeks a waiver of the Commission's notice requirement. Illinois Power has mailed a copy of the filing to the Transmission Customer.

Comment Date: July 17, 2002.

10. Illinois Power Company

[Docket No. ER02-2156-000]

Take notice that on June 26, 2002, Illinois Power Company (Illinois Power), filed a First Revised Service Agreement for Network Integration Transmission Service with Illinois Municipal Electric Agency.

Illinois Power requests an effective date of June 1, 2002 for the Agreement and seeks a waiver of the Commission's notice requirement. Illinois Power has mailed a copy of the filing to the Transmission Customer.

Comment Date: July 17, 2002.

11. Illinois Power Company

[Docket No. ER02-2157-000]

Take notice that on June 26, 2002, Illinois Power Company (Illinois Power), filed a Fifth Revised Network Integration Transmission Service Agreement with Dynegy Power Marketing, Inc.

Illinois Power requests an effective date of June 1, 2002 for the Agreement and seeks a waiver of the Commission's notice requirement. Illinois Power has mailed a copy of the filing to the Transmission Customer.

Comment Date: July 17, 2002.

12. Illinois Power Company

[Docket No. ER02-2158-000]

Take notice that on June 26, 2002, Illinois Power Company (Illinois Power), filed a Firm Short-Term Point-to-Point Transmission Service Agreement and a Non-Firm Point-to-Point Transmission Service Agreement entered into with Northern States Power Company.

Illinois Power requests an effective date of June 1, 2002 for the Agreements and seeks a waiver of the Commission's notice requirement. Illinois Power has mailed a copy of the filing to the Transmission Customer.

Comment Date: July 17, 2002.

13. Illinois Power Company

[Docket No. ER02-2159-000]

Take notice that on June 26, 2002, Illinois Power Company (Illinois Power), filed a Network Integration Transmission Service Agreement with The Cincinnati Gas & Electric Company, PSI Energy, Inc. and Cinergy Services, Inc.

Illinois Power requests an effective date of June 1, 2002 for the Agreement and seeks a waiver of the Commission's notice requirement. Illinois Power has mailed a copy of the filing to the customer.

Comment Date: July 17, 2002.

14. Allegheny Energy Service Corporation on behalf of Allegheny Energy Supply Company, LLC

[Docket No. ER02-2160-000]

Take notice that on June 26, 2002, Allegheny Energy Service Corporation on behalf of Allegheny Energy Supply Company, LLC (Allegheny Energy Supply) filed First Revised Service Agreement No. 70 to complete the filing requirement for one (1) new Customer of the Market Rate Tariff under which Allegheny Energy Supply offers generation services. Allegheny Energy Supply continues to requests a waiver of notice requirements to maintain the effective date of April 16, 2000 for First Revised Service Agreement No. 70 for service to First Energy Solutions Corporation.

Copies of the filing have been provided to the Public Utilities Commission of Ohio, the Pennsylvania Public Utility Commission, the Maryland Public Service Commission, the Virginia State Corporation Commission, the West Virginia Public Service Commission, and all parties of record.

Comment Date: July 17, 2002.

15. Boston Edison Company

[Docket No. ER02-2161-000]

Take notice that on June 26, 2002, Boston Edison Company (Boston Edison) tendered for filing an executed Interconnection Agreement between Boston Edison and the Town of Norwood Municipal Light Department. Boston Edison requests an effective date of the Agreement of May 27, 2002.

Comment Date: July 17, 2002.

16. BP West Coast Products

[Docket No. ER02-2162-000]

Take notice that on June 26, 2002, BP West Coast Products LLC (BP West Coast) submitted for filing a notice of cancellation pursuant to 18 CFR 35.15 to reflect the cancellation of its FERC Electric Tariff, Original Volume No. 1, with a proposed effective date of June 21, 2002.

Comment Date: July 17, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Magalie R. Salas,
Secretary.

[FR Doc. 02-17203 Filed 7-9-02; 8:45 am]

BILLING CODE 6717-01-P